DEPARTMENT OF ENERGY

Federal Energy Regulatory Commission

[Docket No. RP05-422-000]

El Paso Natural Gas Company; Technical Conference Agenda

September 30, 2005.

As agreed among the parties at the September 21, 2005 technical conference in this proceeding, additional conferences will be held on October 18-20, 2005 to further discuss issues raised by El Paso's filing.

The conferences will begin at 10 a.m. (EST), Tuesday, October 18, 2005 in a room to be designated at the offices of the Federal Energy Regulatory Commission, 888 First Street, NE., Washington, DC 20426, and will continue through Wednesday, October 19, 2005 and Thursday, October 20, 2005. There will be a workshop session from 10 a.m. until 2 p.m. on October 18, 2005, at which El Paso will present examples of how its proposed new services will work and how these services may be used to meet shippers' needs. Staff will not attend the October 18 session after 2 p.m. to provide the parties an opportunity to discuss settlement of some of the issues in this proceeding. The format of the conferences on October 19 and 20, 2005, will be the traditional technical conference format with questions and answers on issues related to El Paso's filing.

As further agreed at the September 21, 2005 conference, El Paso will submit on Monday, October 3, 2005, profiles and examples of how customers can use the new services as well as proposed tariff sheet changes. Parties may submit initial briefs by October 5, 2005, addressing the issue of whether the rate cap contained in Article 11.2 of El Paso's 1996 Settlement should continue to apply to El Paso's rates and may submit reply briefs on this issue by October 14, 2005.

Magalie R. Salas,
Secretary.

[FR Doc. E5-5499 Filed 10-5-05; 8:45 am]

BILLING CODE 6717-01-P